ENVIRONMENTAL PROTECTION AGENCY

[FRL-6569-4]

Air Pollution Control; Proposed Actions on Clean Air Act Grants to the Washoe County District Health Department

AGENCY: Environmental Protection Agency (EPA).

ACTION: Notice; proposed determination with request for comments and notice of opportunity for public hearing.

SUMMARY: The U.S. EPA has made a proposed determination that reductions in expenditures of non-Federal funds for the Washoe County District Health Department (WCDHD) in Reno, Nevada are a result of non-selective reductions in expenditures. This determination, when final, will permit the WCDHD to keep their financial assistance for FY 1999 by EPA, under section 105(c) of the Clean Air Act (CAA).

DATES: Comments and/or requests for a public hearing must be received by EPA at the address stated below by May 1, 2000.

ADDRESSES: All comments and/or requests for public hearing should be mailed to: Roy Ford, Grants and Program Integration Office (Air-8), Air Division, U.S. EPA Region IX, 75 Hawthorne Street, San Francisco, California 94105-3901; FAX (415)744-1076.

FOR FURTHER INFORMATION CONTACT: Roy Ford, Grants and Program Integration Office (Air-8), Air Division, U.S. EPA Region IX, 75 Hawthorne Street, San Francisco, California 94105-3901 at (415) 744-1233.

SUPPLEMENTARY INFORMATION: Under the authority of section 105 of the CAA, EPA provides financial assistance (grants) to the WCDHD's to aid in the operation of its air pollution control programs. In FY-98, EPA awarded the WCDHD $839,758, which represented approximately 42% Of the WCDHD budget. In FY-99, EPA awarded $698,213, which represented approximately 36% of the WCDHD's budget.

Section 105(c)(1) of the CAA, 42 U.S.C. 7405(c)(1), provides that “(n)o agency shall receive any grant under this section during any fiscal year when its expenditures of non-Federal funds for recurrent expenditures for air pollution control programs will be less than its expenditures were for such programs during the preceding fiscal year. In order for [EPA] to award grants under this section in a timely manner each fiscal year, [EPA] shall compare an agency's prospective expenditure level to that of its second preceding year.” EPA may still award financial assistance to an agency not meeting this requirement, however, if EPA, “after notice and opportunity for public hearing, determines that a reduction in expenditures is attributable to a non-selective reduction in the expenditures in the programs of all Executive branch agencies of the applicable unit of Government.” CAA section 105(c)(1). These statutory requirements are repeated in EPA's implementing regulations at 40 CFR 35.210(a).

In its FY-99 section 105 Final FSR the WCDHD MOE was $1,161,276. This amount represents a shortfall of $48,016 from the actual FY-98 MOE of $1,209,292. In order for the WCDHD to be eligible to be awarded its FY-1999 grant, EPA must make a determination under section 105(c)(2) to keep the FY-1999 grant for WCDHD.

The reason for the lower MOE level in FY-99 is that the Washoe County District Board outlined a spending reduction plan totaling $316,384 for the Health District, $50,000 (0.4% decrease of the Health District budget) of which was allocated to be reduced by the Air Quality Management Division in the professional services line item account. The WCDHD submitted documentation to EPA which states that the district MOE reduction resulted from agency non-selective reduction in spending applied to Washoe County departments and required by action of the Washoe County Commissioners and adopted by the Washoe County District Board of health which governs the Air Quality management Division's programs.

Therefore, the WCDHD's MOE reduction resulted from a loss of revenues from the County to all agencies due to circumstances beyond its control. EPA proposes to determine that the WCDHD lower FY-99 MOE level meets the section 105(c)(2) criteria as resulting from a non-selective reduction of expenditures. Pursuant to 40 CFR 35.210, this determination will allow the WCDHD to keep the financial assistance for FY-1999.

This document constitutes a request for public comment and an opportunity for public hearing as required by the Clean Air Act. All written comments received by May 1, 2000 on this proposal will be considered. EPA will conduct a public hearing on this proposal only if a written request for such is received by EPA at the address above by May 1, 2000. If no written request for a hearing is received, EPA will proceed to the final determination. While notice of the final determination will not be published in the Federal Register, copies of the determination can be obtained by sending a written request to Roy Ford at the above address.

Dated: March 17, 2000.
David P. Howekamp,
Director, Air Division, Region 9.

[FR Doc. 00-7997 Filed 3-30-00; 8:45 am]

BILLING CODE 6560-50-P